DEPARTMENT OF COMMERCE

National Oceanic and Atmospheric Administration

[RTID 0648-XB841]

New England Fishery Management Council; Public Meeting

AGENCY: National Marine Fisheries Service (NMFS), National Oceanic and Atmospheric Administration (NOAA), Commerce.

ACTION: Notice of public meeting.

SUMMARY: The New England Fishery Management Council (Council) is scheduling a public joint meeting of its Habitat Committee via webinar to consider actions affecting New England fisheries in the exclusive economic zone (EEZ). Recommendations from this group will be brought to the full Council for formal consideration and action, if appropriate.

DATES: This meeting will be held on Thursday, March 17, 2022, at 1 p.m. Webinar registration URL information: https://attendee.gotowebinar.com/register/2538856332393707790.

ADDRESSES: Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Committee will review alternatives to designate a Habitat Area of Particular Concern in Southern New England and identify a preferred alternative for Council consideration at the April meeting. As needed, recommend additional analysis or information to be developed by the Plan Development Team to support Council final action in April. They will also receive an update on the discussions that have occurred between the Plan Development Team and Coonamessett Farm Foundation staff related to development of a final report for their Exempted Fishing Permit study in the Great South Channel Habitat Management Area. The Committee will receive updates on offshore energy, cable, and aquaculture projects of interest to the Council and provide feedback as appropriate. They will also discuss and recommend updates to habitat-related Council research priorities. Also on the agenda is a progress update on habitat-related Council work priorities. Other business may be discussed as necessary.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the date. This meeting will be recorded. Consistent with 16 U.S.C. 1852, a copy of the recording is available upon request.

Authority: 16 U.S.C. 1801 et seq.

Dated: February 23, 2022.
Tracey L. Thompson,
Acting Deputy Director, Office of Sustainable Fisheries, National Marine Fisheries Service.

[FR Doc. 2022-04135 Filed 2-25-22; 8:45 am]

BILLING CODE 3510-22-P